DEPARTMENT OF COMMERCE

International Trade Administration

[C-570-915]

Light-Walled Rectangular Pipe and Tube from the People's Republic of China: Notice of Countervailing Duty Order

AGENCY: Import Administration, International Trade Administration, Department of Commerce.

SUMMARY: Based on affirmative final determinations by the Department of Commerce (the Department) and the International Trade Commission (ITC), the Department is issuing a countervailing duty order on light-walled rectangular pipe and tube (LWRP) from the People's Republic of China (PRC). On July 28, 2008, the ITC notified the Department of its affirmative determination of material injury to a U.S. industry. See Light-Walled Rectangular Pipe and Tube from China, USITC Pub. 4024, Investigation Nos. 701-TA-449 and 731-TA-1118 (Final) (July 2008).

EFFECTIVE DATE: August 5, 2008.

FOR FURTHER INFORMATION CONTACT: Shane Subler or Damian Felton, AD/CVD Operations, Office 1, Import Administration, International Trade Administration, U.S. Department of Commerce, 14th Street and Constitution Avenue, NW, Washington, DC 20230; telephone: (202) 482-0189 and (202) 482-0133, respectively.

SUPPLEMENTARY INFORMATION:

Background

On June 24, 2008, the Department published its final determination in the countervailing duty investigation of LWRP from the PRC. See Light Walled Rectangular Pipe and Tube From People's Republic of China: Final Affirmative Countervailing Duty Investigation Determination, 73 FR 35642 (June 24, 2008).

On July 28, 2008, the ITC notified the Department of its final determination pursuant to sections 705(b)(1)(A)(i) and 735(b)(1)(A)(i) of the Tariff Act of 1930, as amended (the Act), that an industry in the United States is materially injured by reason of subsidized imports of subject merchandise from the PRC. See Light-Walled Rectangular Pipe and Tube from China, USITC Pub. 4024, Investigation Nos. 701-TA-449 and 731-TA-1118 (Final) (July 2008).

Scope of the Order

The merchandise that is the subject of this order is certain welded carbon-quality light-walled steel pipe and tube, of rectangular (including square) cross section (LWR), having a wall thickness of less than 4mm.

The term carbon-quality steel includes both carbon steel and alloy steel which contains only small amounts of alloying elements. Specifically, the term carbon-quality includes products in which none of the elements listed below exceeds the quantity by weight respectively indicated: 1.80 percent of manganese, or 2.25 percent of silicon, or 1.00 percent of copper, or 0.50 percent of aluminum, or 1.25 percent of chromium, or 0.30 percent of cobalt, or 0.40 percent of lead, or 1.25 percent of nickel, or 0.30 percent of tungsten, or 0.10 percent of molybdenum, or 0.10 percent of niobium, or 0.15 percent vanadium, or 0.15 percent of zirconium. The description of carbon-quality is intended to identify carbon-quality products within the scope. The welded carbon-quality rectangular pipe and tube subject to this order is currently classified under the Harmonized Tariff Schedule of the United States (HTSUS) subheadings 7306.61.50.00 and 7306.61.70.60. While HTSUS subheadings are provided for convenience and customs purposes, our written description of the scope of this order is dispositive.

Countervailing Duty Order

On July 28, 2008, in accordance with section 705(d) of the Act, the ITC notified the Department of its final determination that the industry in the United States producing LWRP is materially injured within the meaning of section 705(b)(1)(A)(i) of the Act by reason of subsidized imports of LWRP from the PRC.

Therefore, countervailing duties will be assessed on all unliquidated entries of LWRP from the PRC entered, or withdrawn from warehouse, for consumption on or after November 30, 2007, the date on which the Department published its preliminary affirmative countervailing duty determination in the Federal Register,¹ and before March 29, 2008, the date the Department instructed U.S. Customs and Border Protection (CBP) to discontinue the suspension of liquidation in accordance with section 703(d) of the Act. Section 703(d) of the Act states that the suspension of liquidation pursuant to a preliminary determination may not remain in effect for more than four months. Therefore, entries of LWRP made on or after March 29, 2008, and prior to the date of publication of the ITC's final determination in the Federal Register are not liable for the assessment of countervailing duties due to the Department's discontinuation, effective March 29, 2008, of the suspension of liquidation.

¹ See Light-Walled Rectangular Pipe and Tube from the People's Republic of China: Preliminary Affirmative Countervailing Duty Determination and Alignment of Final Countervailing Duty Determination with Final Antidumping Duty Determination, 72 FR 67703 (November 30, 2007).

In accordance with section 706 of the Act, the Department will direct CBP to reinstitute the suspension of liquidation for LWRP from the PRC, effective the date of publication of the ITC's notice of final determination in the Federal Register and to assess, upon further advice by the Department pursuant to section 706(a)(1) of the Act, countervailing duties for each entry of the subject merchandise in an amount based on the net countervailable subsidy rates for the subject merchandise as noted below.

Exporter/Manufacturer | Net Subsidy Rate
Kunshan Lets Win Steel Machinery Co., Ltd. | 2.17%
Zhangjiagang Zhongyuan Pipe-making Co., Ltd., Jiangsu Qiyuan Group Co., Ltd. | 15.28 %
Qingdao Xiangxing Steel Pipe Co., Ltd. | 200.58%
All Others | 15.28%

This notice constitutes the countervailing duty order with respect to LWRP from the PRC, pursuant to section 706(a) of the Act. Interested parties may contact the Department's Central Records Unit, Room 1117 of the main Commerce Building, for copies of an updated list of countervailing duty orders currently in effect.

This order is issued and published in accordance with section 706(a) of the Act and 19 CFR 351.211(b).

Dated: July 30, 2008.
David M. Spooner,
Assistant Secretary for Import Administration.

[FR Doc. E8-18016 Filed 8-4-08; 8:45 am]

BILLING CODE 3510-DS-S